DEPARTMENT OF COMMERCE

Census Bureau

Proposed Information Collection; Comment Request; 2020 Census Post-Enumeration Survey Person Interview and Person Followup

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before August 5, 2019.

ADDRESSES: Direct all written comments to Jennifer Jessup, Departmental Paperwork Clearance Officer, Department of Commerce, Room 6616, 14th and Constitution Avenue NW, Washington, DC 20230 (or via the internet at docpra@doc.gov). You may also submit comments, identified by Docket number USBC-2019-0003, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, WordPerfect, or Adobe PDF file formats only.

FOR FURTHER INFORMATION CONTACT: Requests for additional information or copies of the information collection instrument(s) and instructions should be directed to Robin A. Pennington, U.S. Census Bureau, 4600 Silver Hill Road, Room 2H465, Washington, DC 20233, 301-763-8132 (or via the internet at Robin.A.Pennington@census.gov).

SUPPLEMENTARY INFORMATION:

I. Abstract

As in previous censuses, the Post-Enumeration Survey (PES) for the 2020 Census will be conducted to provide estimates of census net coverage and components of census coverage for housing units and people living in housing units (see “Definition of Terms” paragraph below) for the United States and Puerto Rico, excluding remote Alaska. Group quarters (such as college/university student housing and correctional facilities) are out of scope, because populations can change significantly between census enumeration and PES enumeration operations. Remote Alaska is out of scope for the PES, because the person and housing unit populations can change significantly between census enumeration and PES enumeration operations. This makes it difficult to follow up on these populations after the census. For this reason, the Census Bureau's past post-enumeration surveys have never included remote Alaska. These coverage estimates provide insight into the quality and coverage of census results and operations.

As in the 2010 Census Coverage Measurement program, the 2020 PES operations and activities must be conducted separate from, and independent of, the other 2020 Census operations. The 2020 PES will use the dual-system estimation procedure, which depends on two independent systems of measurement. The independence between the PES and census operations is a fundamental necessity for dual-system estimation. The PES will comprise two independent enumerations of housing units and the household population within the same sample areas. These two enumerations are called the enumeration sample (E sample) and the population sample (P sample). The primary sampling unit is the Basic Collection Unit (BCU), which is the smallest unit of collection geography for 2020 Census operations. The E sample contains the list of housing units and people enumerated in the 2020 Census within a sample of BCUs. The P sample contains housing units and people in the same sample BCUs, but obtained independently from the census. The independent roster of housing units is obtained during the PES Independent Listing, while the independent roster of people is obtained during the PES Person Interview. The P sample housing units and people will be matched to all census housing units in the sample BCUs and surrounding BCUs.

After the PES Independent Listing and matching operations have taken place, some cases with discrepancies between the PES Independent Listing and the 2020 Census will be identified to receive the PES Initial Housing Unit Followup interview. The results of this interview will again be matched to the list of census housing units. The results of the housing unit matching operations will be used to determine which PES and census addresses will be eligible to go to the PES Person Interview operation. After data collected from the PES Person Interview operation are matched to data collected by the census, some cases with discrepancies between the PES Person Interview and census will be sent for another interview called the PES Person Followup operation. Separate Federal Register Notices have already been issued for the PES Independent Listing operation (Federal Register Notice Vol. 83 FR 53849, pages 53849-53850) and PES Housing Unit Followup operations (Federal Register Notice Vol. 84 FR Doc No.: 2019-07611, pages 16000-16002).

For each sample BCU, the Census Bureau will conduct PES Person Interviews for selected housing units. During the PES Person Interview operation, interviewers will use a computer-assisted data collection instrument on a laptop to obtain information about the current residents of the sample housing unit, including those who may have moved into the selected housing unit since Census Day, April 1, 2020. The interviewer will also attempt to collect data on certain people who moved out of the sample housing unit between Census Day and the PES Person Interview operation. The Census Bureau will include nonmatched 2020 Census addresses in the PES Person Interview so that their 2020 Census enumeration status can be ascertained earlier than if they were included in the Person Followup operation that is conducted later in the PES processing.

The PES Person Interview operation will collect the information listed below only for people in housing units. The computer-assisted PES Person Interview instrument will collect the following information for the housing units included in this operation:

1. Roster of people living at the housing unit at the time of the PES Person Interview operation.

2. Census Day address information for people who moved into the sample address since Census Day.

3. Other addresses where a person may have been counted on Census Day.

4. Information to determine where each person should be counted on Census Day (according to Census residence criteria). For example, interviewers will probe for people who might have been left off the household roster, ask additional questions about people who moved from another address on Census Day to the sample address, and collect additional information for people with multiple addresses.

5. Demographic information for each person in the household on Interview Day or Census Day. These data are name, date of birth, age, Hispanic origin, race, and relationship to householder.

6. Name and above information for any person who has moved out of the sample address since Census Day (if known).

The PES Person Interview Reinterview is a quality control operation that will be conducted on about 15 percent of the PES Person Interview cases. The purpose of the PES Person Interview Reinterview is to confirm that the PES Person Interview interviewer conducted a PES Person Interview with a household member or a proxy respondent and to conduct the complete PES Person Interview as needed if the original interview seems questionable.

For each case identified during matching with discrepancies between the PES Person Interview and census, the Census Bureau will conduct a PES Person Followup for selected people in the household. During the PES Person Followup operation, interviewers will use paper questionnaires to obtain information about the selected people. The PES Person Followup operation will collect the information needed to determine where each selected person should be counted on Census Day (according to 2020 Census residence rules). For example, interviewers will probe for additional addresses where the person may have stayed during the year and dates of stay for each address.

The PES Person Followup Reinterview is a quality control operation that will be conducted on about 15 percent of the PES Person Followup cases. The purpose of the PES Person Followup Reinterview is to confirm that the PES Person Followup interviewer conducted a PES Person Followup interview with a household member or a proxy respondent and to conduct the complete PES Person Followup interview as needed if the original interview seems questionable.

II. Method of Collection

The PES Person Interview and Reinterview operations will be conducted using a computer-assisted data collection instrument on a laptop. The PES Person Followup and Person Followup Reinterview operations will be conducted using a paper questionnaire. The PES Person Interview and Person Followup operations will be conducted through personal visit interviews while PES Person Interview Reinterview and Person Followup Reinterview will be conducted through personal visit and telephone interviews. The PES Person Interview and Reinterview operations will occur June 2020 through September 2020. The PES Person Followup and Person Followup Reinterview operations will occur February 2021 through March 2021.

A sample of approximately 190,000 housing units will be selected for the PES Person Interview operation, and 65,000 housing units will be selected for the PES Person Followup operation. The PES Person Interview Reinterview operation will contain 28,500 housing units, and the PES Person Followup Reinterview operation will contain 9,750 housing units.

Definition of Terms

Components of Census Coverage—The components of census coverage are correct enumerations, erroneous enumerations, whole-person imputations, and omissions. Correct enumerations are people or housing units that were correctly enumerated in the census. Erroneous enumerations are people or housing units that were enumerated in the census but should not have been enumerated. Examples of erroneous enumerations are duplicates, nonexistent housing units or people, and people or housing units that were enumerated in the wrong place. Omissions are people and housing units that were not enumerated in the census but should have been enumerated. Lastly, whole-person imputations are census records for which all of the demographic characteristics were imputed. Many of these imputations represent people in housing units with a known household count, but the Census Bureau did not obtain information about the people residing at the housing unit.

Net Coverage—Reflects the difference between the true population (which is estimated by the Post-Enumeration Survey) and the census count. If the census count was less than the actual number of people or housing units in the population, then there was an undercount. If the census count was more than the actual number of people or housing units in the population, then there was an overcount.

For more information about the Post-Enumeration Survey, please visit the following page of the Census Bureau's website: https://www.census.gov/coverage_measurement/post-enumeration_surveys/.

III. Data

OMB Control Number: 0607-XXXX.

Form Numbers: D-1301, D-1301(PR), D-1301.2, D-1301.2 (PR).

Type of Review: Regular submission.

Affected Public: Individuals or Households.

2020 Census
Operation | Estimated number of housing units | Estimated time per response (in minutes) | Total burden hours
PES Person Interview | 190,000 | 15 | 47,500
PES Person Interview Reinterview | 28,500 | 15 | 7,125
PES Person Followup | 65,000 | 15 | 16,250
PES Person Followup Reinterview | 9,750 | 15 | 2,438
Total | 293,250 |  | 73,313

Estimated Total Annual Burden Hours: 73,313 hours.

Estimated Total Annual Cost: $0.

Respondent's Obligation: Mandatory.

Legal Authority: Title 13, U.S. Code, Sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-11705 Filed 6-4-19; 8:45 am]

BILLING CODE 3510-07-P